DEPARTMENT OF AGRICULTURE

Submission for OMB Review; Comment Request

January 10, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: 7 CFR 1942-G, Rural Business Enterprise Grants and Television Demonstration Grants.

OMB Control Number: 0570-0022.

Summary of Collection: Section 310B of the Consolidated Farm and Rural Development Act authorizes the Rural Business Enterprise Grants to facilitate the development of small and emerging private businesses, industry and related employment for improving the economy in rural communities. Television Demonstration Grants (TDG) is available to statewide, private nonprofit, public television systems to provide information on agriculture and other issues of importance to farmers and other rural residents. 7 CFR Part 1942, Subpart G, is a Rural Business-Cooperative Service (RBS) regulation which covers the administration of this program including eligibility requirements and evaluation criteria to make funding selection decisions.

Need and Use of the Information: RBS will use this information to determine (1) Eligibility; (2) the specific purposes for which grant funds will be utilized; (3) time frames or dates by which actions surrounding the use of funds will be accomplished; (4) who will be carrying out the purposes for which the grant is made; (5) project priority; (6) applicants experience in administering a rural economic development program; (7) employment improvement; and (8) mitigation of economic distress of a community through the creation or salvation of jobs or emergency situations. If the information were not collected, RBS would not be able to determine the eligibility of applicant(s) for the authorized purposes. Collecting this information infrequently would have an adverse effect on the Agency's ability to administer the grant program.

Description of Respondents: Business or other for profit; not-for-profit institutions.

Number of Respondents: 720.

Frequency of Responses: Record-keeping; Reporting: Monthly, on occasion, quarterly.

Total Burden Hours: 19,479.

Ruth Brown,
Departmental Information Collection Clearance Officer.

[FR Doc. E7-484 Filed 1-16-07; 8:45 am]

BILLING CODE 3410-XT-P